DEPARTMENT OF HOMELAND SECURITY

Coast Guard

33 CFR Part 165

[Docket No. USCG-2007-0195]

RIN 1625-AA87

Security Zone; Waters Surrounding U.S. Forces Vessel SBX-1, HI

AGENCY: U.S. Coast Guard, DHS.

ACTION: Final rule.

SUMMARY: The Coast Guard is establishing a permanent security zone around the U.S. Forces vessel SBX-1 during transits within the Honolulu Captain of the Port Zone. This zone is necessary to protect the SBX-1 from threats associated with vessels and persons approaching too close during transit. Entry of persons or vessels into this security zone is prohibited unless authorized by the Captain of the Port (COTP).

DATES: This rule is effective April 11, 2008.

ADDRESSES: Comments and material received from the public, as well as documents mentioned in this preamble as being available in the docket, are part of docket USCG-2007-0195 and are available online at www.regulations.gov. This material is also available for inspection or copying at two locations: The Docket Management Facility (M-30), U.S. Department of Transportation, West Building Ground Floor, Room W12-140, 1200 New Jersey Avenue, SE., Washington, DC 20590, between 9 a.m. and 5 p.m., Monday through Friday, except Federal holidays and U.S. Coast Guard Sector Honolulu, 400 Sand Island Parkway, Honolulu, Hawaii 96819-4398 between 7 a.m. and 3:30 p.m., Monday through Friday, except Federal holidays.

FOR FURTHER INFORMATION CONTACT: Lieutenant (Junior Grade) Jasmin Parker, U.S. Coast Guard Sector Honolulu at (808) 842-2600.

SUPPLEMENTARY INFORMATION:

Regulatory Information

On January 7, 2008, we published a notice of proposed rulemaking (NPRM) entitled Security Zone; Waters Surrounding U.S. Forces Vessel SBX-1, HI in the Federal Register (73 FR 1133). We received one letter commenting on the proposed rule. No public meeting was requested, and none was held.

Background and Purpose

The U.S. Forces vessel SBX-1 will enter the Honolulu Captain of the Port Zone and transit to Pearl Harbor, HI for maintenance at least once each year. The SBX-1 is easy to recognize because it contains a large white object shaped like an egg supported by a platform that is larger than a football field. The platform in turn is supported by six pillars similar to those on large oil-drilling platforms.

The Coast Guard's reaction to such transits thus far has been to await a final voyage plan and then establish a security zone using a temporary final rule applicable to that particular voyage. Such action diminished the public's opportunity for formal comment and imposed a pressing administrative burden each time the SBX-1 arrived. This permanent SBX-1 security zone affords the public consistent regulation regarding the SBX-1 and promotes relief from the emergency rulemakings currently necessary to protect each transit.

Discussion of Comments and Changes

The Coast Guard received one comment regarding this proposed rule through www.regulations.gov. The commenter wrote that the size of the security zone seems to be excessive, and that it may interfere with the transit of recreational boaters. This person suggested that those who approach the SBX-1 may be doing so just to get a better look at it. The commenter also asked whether the Coast Guard conducted a study to determine SBX-1's protection needs.

Coast Guard's Response: While the zone is large, it is the same size as Naval vessel protective zones. That comparison determined the size of the zone; no further study was conducted for this particular vessel. The SBX-1's transits are infrequent, so the size of the security zone typically will not affect normal recreational boating traffic. We have considered reducing the zone but determined that reduction would present an unacceptable level of risk. Additionally, we have determined that the need to provide an adequate security buffer for the vessel outweighs the public's interest in a better view of it.

Discussion of Rule

This security zone is established permanently. It is automatically activated, meaning it is subject to enforcement, whenever the U.S. Forces vessel SBX-1 is in U.S. navigable waters within the Honolulu COTP Zone (see 33 CFR 3.70-10). The security zone includes all waters extending 500 yards in all directions from the SBX-1, from the surface of the water to the ocean floor.

The security zone moves with the SBX-1 while it is in transit. The zone becomes fixed around the SBX-1 while it is anchored, position-keeping, or moored, and it remains activated until the SBX-1 either departs U.S. navigable waters within the Honolulu COTP zone or enters the Honolulu Naval Defensive Sea Area established by Executive Order 8987 (6 FR 6675, December 24, 1941). The COTP will notify the public of the enforcement of the zone through a broadcast notice to mariners.

The general regulations governing security zones contained in 33 CFR 165.33 apply. Entry into, transit through, or anchoring within the zone while it is activated and enforced is prohibited unless authorized by the COTP or a designated representative thereof. Any Coast Guard commissioned, warrant, or petty officer, and any other COTP representative permitted by law, is authorized to enforce the zone. The COTP may waive any of the requirements of this rule for any person, vessel, or class of vessel upon finding that application of the security zone is unnecessary or impractical for the purpose of maritime security. Vessels or persons violating this rule would be subject to the penalties set forth in 33 U.S.C. 1232 and 50 U.S.C. 192.

Regulatory Evaluation

This rule is not a “significant regulatory action” under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. This expectation is based on the limited duration of the zone, the constricted geographic area affected by it, and its ability to move with the protected vessel.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. We expect that there will be little or no impact to small entities due to the narrowly tailored scope of this security zone.

Assistance for Small Entities

Under section 213(a) of the Small Business Regulatory Enforcement Fairness Act of 1996 (Pub. L. 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation because it is a security zone. A final “Environmental Analysis Check List” and a final “Categorical Exclusion Determination” are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6, and 160.5; Pub. L. 107-295, 116 Stat. 2064; Department of Homeland Security Delegation No. 0170.1.

2. A new § 165.1411 to read as follows:

§ 165.1411 Security zone; waters surrounding U.S. Forces vessel SBX-1, HI.

(a) Location. The following area, in U.S. navigable waters within the Honolulu Captain of the Port Zone (see 33 CFR 3.70-10), from the surface of the water to the ocean floor, is a security zone: All waters extending 500 yards in all directions from U.S. Forces vessel SBX-1. The security zone moves with the SBX-1 while it is in transit and becomes fixed when the SBX-1 is anchored, position-keeping, or moored.

(b) Regulations. The general regulations governing security zones contained in 33 CFR 165.33 apply. Entry into, transit through, or anchoring within this zone while it is activated, and thus subject to enforcement, is prohibited unless authorized by the Captain of the Port or a designated representative thereof.

(c) Suspension of Enforcement. The Coast Guard will suspend enforcement of the security zone described in this section whenever the SBX-1 is within the Honolulu Defensive Sea Area (see 6 FR 6675).

(d) Informational notice. The Captain of the Port of Honolulu will cause notice of the enforcement of the security zone described in this section to be made by broadcast notice to mariners. The SBX-1 is easy to recognize because it contains a large white object shaped like an egg supported by a platform that is larger than a football field. The platform in turn is supported by six pillars similar to those on large oil-drilling platforms.

(e) Authority to enforce. Any Coast Guard commissioned, warrant, or petty officer, and any other Captain of the Port representative permitted by law, may enforce the security zone described in this section.

(f) Waiver. The Captain of the Port may waive any of the requirements of this rule for any person, vessel, or class of vessel upon finding that application of the security zone is unnecessary or impractical for the purpose of maritime security.

(g) Penalties. Vessels or persons violating this rule are subject to the penalties set forth in 33 U.S.C. 1232 and 50 U.S.C. 192.

Dated: March 3, 2008.
Barry A. Compagnoni,
Captain, U.S. Coast Guard, Captain of the Port, Honolulu.

[FR Doc. E8-4946 Filed 3-11-08; 8:45 am]

BILLING CODE 4910-15-P